DEPARTMENT OF AGRICULTURE

Commodity Credit Corporation

Farm Service Agency

Request for Extension of a Currently Approved Information Collection; Application for Payment of Amounts Due Persons Who Have Died, Disappeared, or Have Been Declared Incompetent (FSA-325)

AGENCY: Commodity Credit Corporation/Farm Service Agency, USDA.

ACTION: Notice and request for comments.

SUMMARY: In accordance with the Paperwork Reduction Act of 1995, this notice announces the intent of the Commodity Credit Corporation (CCC) and the Farm Service Agency (FSA) to request the renewal of a currently approved information collection. This information collection is used by CCC and FSA to document or determine whether representatives or survivors of a producer are entitled to receive payments earned by a producer who dies, disappears, or is declared incompetent before receiving payments or other disbursements.

DATE: Comments on this notice must be received on or before April 30, 2007 to be assured consideration.

FOR FURTHER INFORMATION CONTACT: Mike Sienkiewicz, Agricultural Program Specialist, Production, Emergencies, and Compliance Division, USDA, FSA, STOP 0517, 1400 Independence Avenue, SW., Washington, DC 20250-0517, telephone (202)720-8959; Electronic mail: Mike.sienkiewica@wdc.usda.gov.

SUPPLEMENTARY INFORMATION: Title: Application for Payment of Amounts Due Persons Who Have Died, Disappeared, or Have Been Declared Incompetent.

OMB Control Number: 0560-0026.

Expiration Date: September 30, 2007.

Type of Request: Extension of a currently approved information collection.

Abstract: Persons desiring to claim payment due a person who has died, disappeared, or has been declared incompetent must do so on Form FSA-325, “Application for Payment of Amounts Due Persons Who Have Died, Disappeared, or Have Been Declared Incompetent”. This information is used by FSA county office employees to document the relationship of heirs or beneficiaries and determine the order of precedence for disbursing payments to survivors of the person who has died, disappeared, or been declared incompetent.

Information is obtained only when a producer eligible to receive a payment or disbursement dies, disappears, or is declared incompetent, and documentation is needed to determine if any survivors are entitled to receive such payments or disbursements.

Estimate of Burden: Public reporting burden for this collection of information is estimated to average .5 hours (½ hour) per response.

Respondents: Individual producers.

Estimated Number of Respondents: 2,000.

Estimated Number of Responses per Respondent: one.

Estimated Total Annual Burden on Respondents: 1,000.

Comments are invited on the following: (a) Whether the collection of information is necessary for the proper performance of the functions of the agency, including whether the information will have practical utility; (b) the accuracy of the agency's estimate of burden including the validity of the methodology and assumptions used; (c) ways to enhance the quality, utility and clarity of the information collected; or (d) ways to minimize the burden of the collection of the information on those who are to respond, including through the use of appropriate automated, electronic, mechanical, or other technological collection techniques or other forms of information technology. Comments should be sent to the Desk Officer for Agriculture, Office of Information and Regulatory Affairs, Office of Management and Budget, Washington, DC 20503 and to Mike Sienkiewicz, Agricultural Program Specialist, Production, Emergencies, and Compliance Division, USDA, FSA, STOP 0517, 1400 Independence Avenue, SW., Washington, DC 20250-0517, (202) 720-8959.

Comments will be summarized and included in the request for Office of Management and Budget approval of the information collection. All comments will also become a matter of public record.

Signed at Washington, DC, on February 20, 2007.
Glen L. Keppy,
Acting Executive Vice President, Commodity Credit Corporation and Administrator, Farm Service Agency.

[FR Doc. 07-899 Filed 2-27-07; 8:45 am]

BILLING CODE 3410-05-P